ENVIRONMENTAL PROTECTION AGENCY

[EPA-HQ-OPPT-2015-0183; FRL-9926-36]

Certain New Chemicals; Receipt and Status Information

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from March 1, 2015 to March 31, 2015.

DATES: Comments identified by the specific PMN number or TME number, must be received on or before May 22, 2015.

ADDRESSES: Submit your comments, identified by docket identification (ID) number EPA-HQ-OPPT-2015-0183, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, Information Management Division (7407M), Office of Pollution Prevention and Toxics, Environmental Protection Agency, 1200 Pennsylvania Ave. NW., Washington, DC 20460-0001; telephone number: (202) 564-8593; email address: Rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from March 1, 2015 to March 31, 2015, and consists of the PMNs and TMEs both pending and/or expired, and the NOCs to manufacture a new chemical that the Agency has received under TSCA section 5 during this time period.

III. What is the Agency's authority for taking this action?

Section 5 of TSCA requires that EPA periodical publish in the Federal Register receipt and status reports, which cover the following EPA activities required by provisions of TSCA section 5.

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals.

IV. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—51 PMNs Received From 03/01/2015 to 03/31/2015
Case No. | Received date | Projected notice end date | Manufacturer importer | Use | Chemical
P-15-0292 | 02/17/2015 | 05/18/2015 | CBI | (S) Reactive polymer for use in coatings | (G) Acrylic polymer
P-15-0322 | 03/01/2015 | 05/30/2015 | CBI | (G) Adhesive | (G) Poly[oxy(alkanediyl)],.alpha.,.alpha.',.alpha.”-1,2,3-propanetriyltris[.omega.- (2-hydroxy-3-mercaptopropoxy)-
P-15-0323 | 03/02/2015 | 05/31/2015 | Allnex USA Inc. | (S) Main or cobinder in litho ink formulation | (G) Alkanoic acid, polymer with substituted carbomonocycle, substituted heteromonocycle, alkyl ester, alkyl peroxide-initiated
P-15-0324 | 03/02/2015 | 05/31/2015 | CBI | (G) Additive in oil | (G) Magnesium alkaryl sulfonate
P-15-0325 | 03/02/2015 | 05/31/2015 | Firmenich Incorporated | (G) As part of a fragrance formula | (S) (4E)-Methyl-5-(4-methylphenyl)-4-pentanal
P-15-0326 | 03/02/2015 | 05/31/2015 | CBI | (G) Specialty gas, Foam additive, Transfer fluid | (G) Hydrofluorocarbon
P-15-0327 | 03/03/2015 | 06/01/2015 | CBI | (G) Additive | (G) Acryl based copolymer
P-15-0328 | 03/03/2015 | 06/01/2015 | CBI | (G) Cement additive | (G) Aluminum calcium oxide salt
P-15-0329 | 03/03/2015 | 06/01/2015 | CBI | (S) Additive | (S) Urea, N,N′′-1,6-hexanediylbis[N′-[(1S)-1-phenylethyl]-
P-15-0331 | 03/04/2015 | 06/02/2015 | CBI | (S) Ingredient in cured coating for led chips | (G) Diphenylcyclic siloxane
P-15-0330 | 03/04/2015 | 06/02/2015 | CBI | (S) Ingredient in cured coating for led chips | (G) Diphenylcyclic siloxane
P-15-0332 | 03/04/2015 | 06/02/2015 | CBI | (G) Site-limited intermediate | (G) Linear siloxane
P-15-0333 | 03/04/2015 | 06/02/2015 | CBI | (G) Site-limited intermediate | (G) Distillation bottoms
P-15-0336 | 03/06/2015 | 06/04/2015 | Nalco Champion, An Ecolab Company (950119) | (S) Conductive surface coating for proppant used in hydraulic fracturing | (G) Polyethylenaminepolyalkylamide
P-15-0337 | 03/09/2015 | 06/07/2015 | CBI | (G) To be used as an end cap on a polyurethane prepolymer | (G) Amino functional silane
P-15-0338 | 03/09/2015 | 06/07/2015 | CBI | (S) Industrial lubricant | (S) Decanedioic acid, 1,10-diisotridecyl ester
P-15-0339 | 03/09/2015 | 06/07/2015 | CBI | (G) Paint additive | (G) Substituted carbomonocycle bis-, polymer with carbon dioxide, haloalkyl heteromonocycle, disubstituted alkanes, and [(alkylidene)bis(substituted alkylene carbomonocycle)]bis[heteromonocycle]
P-15-0341 | 03/11/2015 | 06/09/2015 | H.B. Fuller Company | (S) Binder ingredient in grout formulations | (G) Propenoic acid alkyl ester(s), telomer with alkanethiol, 2-methyl-2-propenoic acid and 2-hydroxyethyl 2-propenoate
P-15-0342 | 03/12/2015 | 06/10/2015 | CBI | (G) Adhesive for electrical industry use | (G) Carboxylated Styrene butadiene Polymer
P-15-0344 | 03/13/2015 | 06/11/2015 | CBI | (G) Lubricant additive | (G) 2,5-Furandione, polymer with 1-dodecene,alkyl esters
P-15-0345 | 03/13/2015 | 06/11/2015 | CBI | (G) Additive | (G) Acryl based copolymer
P-15-0346 | 03/13/2015 | 06/11/2015 | CBI | (G) Adhesive component | (G) Polyurethane adduct
P-15-0348 | 03/16/2015 | 06/14/2015 | CBI | (G) Physicochemical property modifier | (G) Salt of a methacrylic acid derivative—acrylic acid copolymer
P-15-0349 | 03/16/2015 | 06/14/2015 | CBI | (G) Use in Ultraviolet/Electron beam (UV/EB) adhesives and coatings | (G) Carbonic acid, diethyl ester, polymer with 1,6-hexanediol, 5-isocyanato-1-(isocyanatomethyl)-1,3,3-trimethylcyclohexane 2-hydroxyethyl acrylate-blocked
P-15-0352 | 03/18/2015 | 06/16/2015 | Carbon3D, Inc. | (G) Oligomeric component of 3D printer resin formulations | (G) Urethane oligomer
P-15-0353 | 03/19/2015 | 06/17/2015 | CBI | (G) Lubricant additive | (G) Chlorinated complex ester
P-15-0354 | 03/19/2015 | 06/17/2015 | CBI | (G) Lubricant | (G) Perfluoropolyether-block-Polytetrafluoroethylene
P-15-0354 | 03/19/2015 | 06/17/2015 | CBI | (G) Anti-stick additive | (G) Perfluoropolyether-block-Polytetrafluoroethylene
P-15-0355 | 03/20/2015 | 06/18/2015 | CBI | (S) Industrial Coating crosslinker | (S) Hexane, 1,6-diisocyanato-, homopolymer, di-Et malonate-blocked
P-15-0356 | 03/20/2015 | 06/18/2015 | CBI | (G) Additive in polymer formulation for electronics | (S) Oxirane, 2,2′-[[1-[4-[1-methyl-1-[4-(2-oxiranylmethoxy)phenyl]ethyl]phenyl]ethylidene]bis(4,1-phenyleneoxymethylene)]bis-
P-15-0356 | 03/20/2015 | 06/18/2015 | CBI | (G) Additive in polymer formulation for electronics | (S) 2-Propanol, 1,3-bis[4-[1-[4-[1-methyl-1-[4-(2-oxiranylmethoxy)phenyl]ethyl]phenyl]-1-[4-(2-oxiranylmethoxy)phenyl]ethyl]phenoxy]-
P-15-0357 | 03/20/2015 | 06/18/2015 | CBI | (G) Raw material for thermal paper manufacture | (G) Benzenesulfonamide, phenyl substituted carbonyl
P-15-0358 | 03/22/2015 | 06/20/2015 | CBI | (S) Acrylic resin used in the manufacture of inks and coatings | (G) Hexamethylene diisocyanate with caprolactone acrylate
P-15-0359 | 03/23/2015 | 06/21/2015 | CBI | (S) A hardener for epoxy systems for use in architectural coatings | (S) Formaldehyde, polymer with N-(3-aminopropyl)-1,3-propanediamine
P-15-0361 | 03/24/2015 | 06/22/2015 | CBI | (G) Additive, open, non-dispersive use | (G) Alkyl and aralkyl and trimethoxysilylethylene modified polysiloxane
P-15-0362 | 03/25/2015 | 06/23/2015 | CBI | (G) Printing ink | (G) Polyamid resin
P-15-0363 | 03/23/2015 | 06/21/2015 | CBI | (G) Monomer | (G) Aliphatic acrylate
P-15-0364 | 03/25/2015 | 06/23/2015 | DIC International (USA) LLC | (G) Colorant for industrial coatings and plastics | (G) Copper, [29H,31H-phthalocyaninato(2-)-.kappa.n29,.kappa.n30,.kappa.n31,.kappa.n32]-, (sp-4-1)- and metal, [substituted 29h,31h-phthalocyanine-.kappa.n29,.kappa.n30,.kappa.n31,lkappa.n32]-
P-15-0365 | 03/25/2015 | 06/23/2015 | CBI | (G) Component of pesticide formulation | (G) Alkyl alkenoic acid polymers with alkyl acrylate, alkyl methacrylate, polyether methacrylate alkyl ethers and substituted heteromonocycle, compounds with substituted alkyl alkanol
P-15-0366 | 03/26/2015 | 06/24/2015 | CBI | (G) Automotive coatings | (G) Alkylmethacrylate, polymer with cycloalkylmethacrylate, alkenylbenzene, branched alkylmethacrylate, hydroxyalkylmethacrylate, alkanediolmonomethacrylate, and alkenoic acid, t-butyl alkaneperoxoic acid ester and alkyl peroxide-initiated
P-15-0367 | 03/26/2015 | 06/24/2015 | CBI | (S) Curing agent for epoxy resin | (G) Cycloalkanediamine, polymer with 2,2'-[methylenebis(phenyleneoxymethylene)]bis[oxirane]
P-15-0368 | 03/26/2015 | 06/24/2015 | Industrial Speciality Chemicals | (G) This material will be used in conjunction with current chemistries for wastewater treatment. | (G) Starch (trialkylammonio) ether, halide; (haloalkyl)trialkylammonium halide; alkane bis(trialkylammonium) halide
P-15-0369 | 03/26/2015 | 06/24/2015 | Clean Chemistry | (S) Water clarifying agent, odor control agent, bleaching agent, and general oxidant for water treatment | (G) Organic peroxide
P-15-0369 | 03/26/2015 | 06/24/2015 | Clean Chemistry | (G) Destructive use in fuel production | (G) Organic peroxide
P-15-0370 | 03/27/2015 | 06/25/2015 | CBI | (G) Printing additive | (G) Alcohols, polymers with dicarboxylic acid, alcohols, alkenedioic acid, dicarboxylic acids, alkanoic acid esters
P-15-0372 | 03/27/2015 | 06/25/2015 | CBI | (G) Surfactant | (G) 1,3-Propanediamine, N1-alky,-, carboxymethyl derivs
P-15-0373 | 03/31/2015 | 06/29/2015 | Allnex USA Inc. | (S) Coatings for automobile headlights, polycarbonate glazing, and films | (G) Substituted carbopolycycle, polymer with disubstituted alkane substituted alkyl methacrylate-blocked
P-15-0374 | 03/31/2015 | 06/29/2015 | CBI | (G) Polymer for optical application | (G) Methacrylic copolymer with cyclic structure unit
P-15-0375 | 03/31/2015 | 06/29/2015 | CBI | (G) Lubricant additive | (G) 2,5-Furandione, polymer with 1-dodecene,alkyl esters
P-15-0376 | 03/31/2015 | 06/29/2015 | CBI | (G) Oil additive | (G) Alkenes, reaction products with alkyl carbonate, phenol and sulfur, calcium salts

In Table II. of this unit, EPA provides the following information (to the extent that such information is not claimed as CBI) on the TMEs received by EPA during this period: The EPA case number assigned to the TME, the date the TME was received by EPA, the projected end date for EPA's review of the TME, the submitting manufacturer/importer, the potential uses identified by the manufacturer/importer in the TME, and the chemical identity.

Table II—1 TME Received From 03/01/2015 to 03/31/215
Case No. | Received date | Projected notice end date | Manufacter importer | Use | Chemical
T-15-0008 | 03/20/2015 | 05/04/2015 | CBI | (G) Intermediate | (G) Alkyl substituted cresol

In Table III. of this unit, EPA provides the following information (to the extent that such information is not claimed as CBI) on the NOCs received by EPA during this period: The EPA case number assigned to the NOC, the date the NOC was received by EPA, the projected end date for EPA's review of the NOC, and chemical identity.

Table III.—25 NOCs Received From 03/01/2015 to 03/31/2015
Case No. | Received date | Commencement notice end date | Chemical
P-14-0792 | 03/03/2015 | 02/05/2015 | (G) 1,2,3-Propanetriol, homopolymer, alkanoate and glycerides, alkanoate, mono-, di-and tri-
P-14-0718 | 03/03/2015 | 02/09/2015 | (G) Polyol
P-13-0326 | 03/13/2015 | 02/17/2015 | (G) Castor oil, dehydrated, polymer with alkyl diamine, dihydroxyalkyl carboxylic acid, aromatic azinetriamine, methylenebis[isocyanatocycloalkane]-, compounds with trialkylamine
P-13-0332 | 03/13/2015 | 02/17/2015 | (G) Propenoic acid ester, polymer with N-(dimethyloxoalkyl)alkylamide, alkyl propenoate and alkyl alkyl propenoate
P-13-0522 | 03/13/2015 | 02/17/2015 | (G) Alkanedioic acid, polymer with aminoalkanol, alkanediol, alkyl-(hydroxyalkyl)alkanediol, 1,x-alkanediol, hydroxy-(hydroxyalkyl)alkanoic acid, methylenebis[isocyanatocycloalkane] and alkene carboxylic acid, compound with alkylmorpholine
P-13-0831 | 03/13/2015 | 02/17/2015 | (G) Dicarboxylic acid, polymer with N-(dialkyl-oxoalkyl)-alkennamide, alkanediol, alkanediol, hydroxy-(hydroxyalkyl)-alkyl carboxylic acid, isocyanato-(isocyanatoalkyl)-trimethylcycloalkane, methylenebis[isocyanatocycloalkane] and alkyl alkyl-alkenoate, compounds with dialkylalkylamine
P-14-0686 | 03/13/2015 | 02/17/2015 | (G) Alkenoic acid, polymer with alkyl 2-alkenoate, N-(1,1-dialkyl-3-oxoalkyl)-2-alkenamide and alkyl 2-alkyl-2-alkenoate
P-14-0685 | 03/16/2015 | 02/20/2015 | (G) Alkenoic acid, polymer with alkyl 2-alkyl-2-alkenoate, alkyl 2-alkenoate, N-(1,1-dialkyl-3-oxoalkyl)-2-alkenamide and alkyl 2-alkyl-2-alkenenoate
P-15-0102 | 03/03/2015 | 02/23/2015 | (G) Alkali titanosilicate salt
P-15-0087 | 03/25/2015 | 02/25/2015 | (G) Substituted heteromonocyclic carboxylic acid salt
P-12-0318 | 03/03/2015 | 02/28/2015 | (G) Cycloalkylmethamine, amino alkyl, polymer with hydroxypoly(oxyalkanediyl), hydroxypoly[oxy(alkyl-1,2-alkanediyl)] and alkyl bisisocyanatocycloalkane, alc.-blocked
P-13-0305 | 03/10/2015 | 03/03/2015 | (G) Fluorinated ester
P-09-0199 | 03/18/2015 | 03/03/2015 | (S) Carbon nanotube, multi-wall*
P-14-0701 | 03/06/2015 | 03/05/2015 | (G) Functionalized fatty acid, polymer with maleic anhydride, me methacrylate, 4-oxopentanoic acid and styrene, compound with triethylamine.
P-15-0075 | 03/09/2015 | 03/05/2015 | (G) Siliicone acrylic/methacrylic polymer
P-15-0122 | 03/17/2015 | 03/10/2015 | (G) Bicycloamine
P-15-0061 | 03/20/2015 | 03/10/2015 | (G) Imidazolium,polymer with cyclic anhydride and alkenoic acid, alkali salt
P-14-0452 | 03/19/2015 | 03/12/2015 | (G) Substituted naphthalene polymer glycidyl ether
P-13-0653 | 03/17/2015 | 03/16/2015 | (G) Fatty acid polymer with aliphatic alcohol and aromatic diacid
P-15-0063 | 03/20/2015 | 03/16/2015 | (G) Perfluoropolyether modified silane
P-14-0559 | 03/25/2015 | 03/20/2015 | (S) 1,6,10-Dodecatriene, 7,11-dimethyl-3-methylene-, (6e)-, hydrogenated*
P-15-0137 | 03/27/2015 | 03/26/2015 | (G) Fatty acids, polymers with substituted carbomonocycle, substituted heteromonocycle, and alkylamine, substituted alkanoic acid (salts)
P-14-0007 | 03/06/2015 | 04/02/2014 | (G) Fatty acids, esters with polyol
P-06-0620 | 03/06/2015 | 11/08/2006 | (S) Fatty acids, C8-10, tetraesters with bis[2,2-bis(hydroxymethyl)butyl] adipate*

If you are interested in information that is not included in these tables, you may contact EPA as described in Unit III to access additional non-CBI information that may be available.

Authority: 15 U.S.C. 2601 et seq.

Dated: April 15, 2015.
Chandler Sirmons,
Acting Director, Information Management Division, Office of Pollution Prevention and Toxics.

[FR Doc. 2015-09204 Filed 4-21-15; 8:45 am]

BILLING CODE 6560-50-P